DEPARTMENT OF THE INTERIOR

Bureau of Ocean Energy Management

[Docket No. BOEM-2025-0417]

Gulf of America OCS Oil and Gas One Big Beautiful Bill Act Lease Sale 1

AGENCY: Bureau of Ocean Energy Management, Interior.

ACTION: Final notice of sale.

SUMMARY: On Wednesday, December 10, 2025, the Bureau of Ocean Energy Management (BOEM) will open and publicly announce bids received for blocks offered in the Gulf of America (GOA) Outer Continental Shelf (OCS) Oil and Gas One Big Beautiful Bill Act Lease Sale 1 (Lease Sale BBG1). BOEM is holding this sale pursuant to the One Big Beautiful Bill Act (OBBBA) and in accordance with the Outer Continental Shelf Lands Act (OCSLA), as amended, and its implementing regulations. The Final Notice of Sale (NOS) package for Lease Sale BBG1 contains information essential to potential bidders and comprises this notice, Information to Lessees, and Lease Stipulations. Section 50102 of the OBBBA mandates that the Secretary of the Interior conduct the sale within a specific time period and directs the Secretary to offer the same lease form, lease terms, economic conditions, and stipulations as contained in the final notice of sale entitled “Gulf of Mexico Outer Continental Shelf Region-Wide Oil and Gas Lease Sale 254” (85 FR 8010, Feb. 12, 2020).

DATES: BOEM will hold Lease Sale BBG1 at 9:00 a.m. on Wednesday, December 10, 2025. All times referred to in this document are Central time, unless otherwise specified.

Bid submission deadline: BOEM must receive all sealed bids prior to the bid submission deadline of 10:00 a.m. on Tuesday, December 9, 2025, the day before the lease sale. For more information on bid submission, see Section VII of this document, “Bidding Instructions.”

ADDRESSES: Bids will be accepted, prior to the bid submission deadline, through any parcel delivery service (e.g., FedEx, UPS, U.S. Postal Service, DHL) or in person at 1201 Elmwood Park Boulevard, New Orleans, Louisiana 70123. Public bid reading for Lease Sale BBG1 will be held at 4545 Williams Boulevard, Kenner, Louisiana. The venue will not be open to the general public, but limited seating will be available for Lease Sale BBG1 bidders only. Bid opening will be available for public viewing on BOEM's website at https://www.boem.gov/Sale-BBG1 via live-streaming video beginning at 9:00 a.m. on the date of the sale. The results will be posted on BOEM's website upon completion of bid opening and reading. Interested parties may download the Final NOS package from BOEM's website at https://www.boem.gov/Sale-BBG1. Copies of the sale maps can be obtained by contacting the BOEM GOA Region: Gulf of America Region Public Affairs Office, Bureau of Ocean Energy Management, 1201 Elmwood Park Boulevard, New Orleans, Louisiana 70123-2394, (504) 650-7060.

FOR FURTHER INFORMATION CONTACT: Pedro Levy, Gulf of America Region Lease Sale Coordinator, at BOEMGulfLeaseSales@boem.gov or 504-739-1360. For sale day inquiries, please call Greg Purvis at 504-736-1729.

SUPPLEMENTARY INFORMATION:

Authority: This sale is being held pursuant to the requirements of Public Law 119-21 (One Big Beautiful Bill Act). This Final Notice of Sale is published pursuant to 43 U.S.C. 1331 et seq., (Outer Continental Shelf Lands Act, as amended) and 30 CFR 556.308(a). Following President Trump's Executive Order 14172, “Restoring Names That Honor American Greatness,” (January 20, 2025), the Gulf of Mexico has been renamed to the Gulf of America. Any references to “Gulf of Mexico” herein are solely retained due to official titles of statutes, treaties, agreements or publications.

Table of Contents

I. Lease Sale Area

II. Statutes and Regulations

III. Lease Terms and Economic Conditions

IV. Lease Stipulations

V. Information to Lessees

VI. Maps

VII. Bidding Instructions

VIII. Bidding Rules and Restrictions

IX. Forms

X. The Lease Sale

XI. Delay of Sale

I. Lease Sale Area

Blocks Offered for Leasing: BOEM will offer for bid in this lease sale all available unleased acreage in the GOA OCS as identified on the map, “Final Oil and Gas Sale Area for Sale BBG1” (https://www.boem.gov/Sale-BBG1), except those blocks listed below in “Blocks Not Offered for Leasing.”

Blocks Not Offered for Leasing: BOEM will exclude the following whole and partial blocks from this sale. The BOEM Official Protraction Diagrams (OPDs) and Supplemental OPDs are available online at https://www.boem.gov/oil-gas-energy/mapping-and-data.

• Whole and Partial Blocks withdrawn from leasing by Presidential Withdrawal in the September 8, 2020, Memorandum on the Withdrawal of Certain Areas of the United States Outer Continental Shelf from Leasing Disposition:

Table 1—OCS Blocks Withdrawn From Leasing Pursuant to the Presidential Memorandum Issued on September 8, 2020
GOA protraction areas | OCS block
Pensacola (Leasing Map NH 16-05) | Whole Blocks: 751-754, 793-798, 837-842, 881-886, 925-930, 969-975.
Destin Dome (Leasing Map NH 16-08) | Whole Blocks: 1-7, 45-51, 89-96, 133-140, 177-184, 221-228, 265-273, 309-317, 353-361, 397-405, 441-450, 485-494, 529-538, 573-582, 617-627, 661-671, 705-715, 749-759, 793-804, 837-848, 881-892, 925-936, 969-981.
DeSoto Canyon (Leasing Map NH 16-11) | Whole Blocks: 1-15, 45-59, 92-102. Partial Blocks: 16, 60, 61, 89-91, 103-105, 135-147.
Henderson (Leasing Map NG 16-05) | Partial Blocks: 114, 158, 202, 246, 290, 334, 335, 378, 379, 422, 423.

• Whole and Partial Blocks within the boundary of the Flower Garden Banks National Marine Sanctuary (East and West Flower Garden Banks and the Stetson Bank) as of the July 14, 2008, Memorandum on Modification of the Withdrawal of Areas of the United States Outer Continental Shelf from Leasing Disposition:

Table 2—OCS Blocks Withdrawn From Leasing in the Flower Garden Banks National Marine Sanctuary
GOA protraction areas | OCS block
High Island, East Addition, South Extension (Leasing Map TX7C) | Whole Block: A-398. Partial Blocks: A-366, A-367, A-374, A-375, A-383, A-384, A-385, A-388, A-389, A-397, A-399, A-401.
High Island, South Addition (Leasing Map TX7B) | Partial Blocks: A-502, A-513.
Garden Banks (Leasing Map NG 15-02) | Partial Blocks: 134, 135.

• Whole and Partial Blocks that are adjacent to or beyond the United States Exclusive Economic Zone in the area known as the northern portion of the Eastern Gap:

Table 3—OCS Blocks Not Offered for Leasing Adjacent to or Beyond the United States Exclusive Economic Zone
GOA Protraction areas | OCS Block
Lund South (Leasing Map NG 16-07) | Whole Blocks: 128, 129, 169-173, 208-217, 248-261, 293-305, 349.
Henderson (Leasing Map NG 16-05) | Whole Blocks: 466, 508-510, 551-554, 594-599, 637-643, 679-687, 722-731, 764-775, 807-819, 849-862, 891-905, 933-949, 975-992. Partial Blocks: 335, 379, 423, 467, 511, 555, 556, 600, 644, 688, 732, 776, 777, 820, 821, 863, 864, 906, 907, 950, 993, 994.
Florida Plain (Leasing Map NG 16-08) | Whole Blocks: 5-24, 46-67, 89-110, 133-154, 177-197, 221-240, 265-283, 309-327, 363-370.

• Depth-restricted, segregated block portion(s). The current block meeting this criterion is:

• Block 299, Main Pass Area, South and East Addition (as shown on Louisiana Leasing Map LA10A), containing 1,125 acres from the surface of the earth down to a subsea depth of 1,900 feet with respect to the following described portions:

SW1/4NE1/4; NW1/4SE1/4NE1/4; W1/2NE1/4SE1/4NE1/4; S1/2S1/2NW1/4NE1/4; S1/2SW1/4NE1/4NE1/4; S1/2SW1/4SE1/4NE1/4NE1/4; N1/2SW1/4SE1/4 NE1/4; SW1/4SW1/4SE1/4NE1/4; NW1/4SE1/4 SE1/4 NE1/4; N1/2NW1/4SW1/4SE1/4SE1/4NE1/4; N1/2SE1/4SW1/4SE1/4NE1/4; N1/2S1/2SE1/4SW1/4SE1/4NE1/4; S1/2NE1/4NW1/4; S1/2S1/2N1/2NE1/4NW1/4; N1/2SE1/4NW1/4;S1/2SE1/4NW1/4NW1/4; NE1/4SE1/4 NW1/4NW1/4; E1/2NE1/4SW1/4NW1/4; N1/2SE1/4SE1/4NW1/4; NE1/4SW1/4SE1/4NW1/4; N1/2NW1/4SW1/4SE1/4NW1/4; SE1/4SE1/4SE1/4NW1/4; E1/2SW1/4SE1/4SE1/4NW1/4; N1/2NW1/4NE1/4SW1/4NW1/4; N1/2S1/2NW1/4NE1/4SW1/4NW1/4; N1/2N1/2NE1/4NE1/4NE1/4SW1/4; N1/2N1/2N1/2NW1/4NW1/4SE1/4; N1/2N1/2NW1/4NE1/4NW1/4SE1/4

• Any remaining blocks in which the status of existing leases is under appeal, if the lease status is not resolved before publication of the Final NOS.

The final list of blocks available for bid will be posted on BOEM's website at https://www.boem.gov/Sale-BBG1.

II. Statutes and Regulations

Each lease is issued pursuant to the OBBBA and OCSLA, 43 U.S.C. 1331 et seq., as amended, and is subject to OCSLA implementing regulations promulgated pursuant thereto in 30 CFR part 556, and other applicable statutes and regulations in existence upon the effective date of the lease, as well as those applicable statutes enacted and regulations promulgated thereafter, except to the extent that the after-enacted statutes and regulations explicitly conflict with an express provision of the lease. Each lease is subject to amendments to statutes and regulations, including but not limited to OCSLA, that do not explicitly conflict with an express provision of the lease. The lessee expressly bears the risk that such new or amended statutes and regulations (i.e., those that do not explicitly conflict with an express provision of the lease) may increase or decrease the lessee's obligations under the lease. BOEM reserves the right to reject any and all bids received, regardless of the amount offered (see 30 CFR 556.516).

Section 50102(a)(1) of the OBBBA requires the Secretary to conduct a minimum of 30 offshore lease sales in the Gulf of America Region through 2040, notwithstanding the 2024-2029 Outer Continental Shelf Oil and Gas Leasing Program (or any successor leasing program that does not satisfy the requirements of the OBBBA). This lease sale constitutes the first lease sale required by OBBBA in the Gulf of America. The statute sets a specific timing requirement, directing the Secretary to hold not fewer than 1 lease sale in that aforementioned area by December 15, 2025, at least two lease sales in each calendar year from 2026 through 2039 (by March 15 and August 15 of each applicable year), and at least one sale by March 15, 2040. The statute further requires specific Terms and Stipulations that must be used for these sales, stating that the Secretary must “offer the same lease form, lease terms, economic conditions, and stipulations as contained in the final notice of sale of the Bureau of Ocean Energy Management entitled for the `Gulf of Mexico Outer Continental Shelf Region-Wide Oil and Gas Lease Sale 254' (85 FR 8010 (February 12, 2020)).”

The OBBBA was signed into law on July 4, 2025, and contains statutory requirements to conduct a lease sale in the Gulf of America with specific parameters and timing requirements. All GOA oil and gas lease sales mandated by the OBBBA must offer the same lease form, lease terms, economic conditions, and lease stipulations 4 through 9 as identified in the Lease Sale 254 Final NOS (85 FR 8010), which was published on February 12, 2020. Additionally, the OBBBA requires the Secretary of the Interior to set royalty rates at not less than 12½ percent and not more than 16⅔ percent; establishes a 10-year primary term for deepwater GOA leases; requires not fewer than 80 million acres to be offered, or all available unleased acres if less than 80 million acres are available; and increases the amount of revenue sharing pursuant to the Gulf of Mexico Energy Security Act of 2006 (GOMESA, Pub. L. 109-432) from $500 million to $650 million through 2034. The annual GOMESA revenue sharing caps continue thereafter at $500 million per year through 2055, after which there will be no caps on GOMESA revenue sharing.

III. Lease Terms and Economic Conditions

BOEM will offer leases that include certain terms and conditions to ensure compliance with the requirements of the OBBBA.

OCS Lease Form

Pursuant to Section 50102(b)(1)(A) of the OBBBA, BOEM will use Form BOEM-2005 (February 2017) to convey leases resulting from this sale. This lease form can be viewed on BOEM's website at http://www.boem.gov/BOEM-2005. The lease form will be amended to include specific terms, conditions, and stipulations applicable to the individual lease. The final terms, conditions, and stipulations applicable to this sale are below.

Primary Terms

Section 50102(b)(1)(A) of the OBBBA requires that the primary term for leases in water depths less than 800 meters to be the same as those in Lease Sale 254. Additionally, Section 50102(b)(1)(D) requires a primary term of 10 years for leases offered in water depths 800 meters or deeper. The primary terms for this sale are summarized in the following table:

Table 4—Primary Terms
Water depth (meters) | Primary term
0 to <400 | The primary term is 5 years; the lessee may earn an additional 3 years (i.e., for an 8-year extended primary term) if a well is spudded targeting hydrocarbons below 25,000 feet True Vertical Depth Subsea (TVDSS) during the first 5 years of the lease.
400 to <800 | The primary term is 5 years; the lessee will earn an additional 3 years (i.e., for an 8-year extended primary term) if a well is spudded during the first 5 years of the lease.
800 + | 10 years.

1. The primary term for a lease in water depths of less than 400 meters is 5 years. If the lessee spuds a well targeting hydrocarbons below 25,000 feet TVDSS within the first 5 years of the lease, then the lessee may earn an additional 3 years, resulting in an 8-year primary term. The lessee will earn the 8-year primary term when the well is drilled to a target below 25,000 feet TVDSS; or the lessee may earn the 8-year primary term in cases where the well targets, but does not reach, a depth below 25,000 feet TVDSS due to mechanical or safety reasons that are beyond the lessee's control, and that are supported by sufficient evidence from the lessee. To earn the 8-year primary term, the lessee is required to submit a letter to the BOEM GOA Regional Supervisor, Office of Leasing and Plans, as soon as practicable, but no more than 30 days after completion of the drilling operation, providing the well number, spud date, information demonstrating a target below 25,000 feet TVDSS and whether that target was reached, and if applicable, any safety or mechanical reasons encountered that prevented the well from reaching a depth below 25,000 feet TVDSS. In the letter, the lessee must request confirmation from BOEM that the lessee earned the 8-year primary term. The BOEM GOA Regional Supervisor for Leasing and Plans will confirm in writing, within 30 days of receiving the lessee's letter, whether the lessee has earned the extended primary term and accordingly update BOEM's records. The extended primary term is not effective unless and until the lessee receives confirmation from BOEM. A lessee that has earned the 8-year primary term by spudding a well with a hydrocarbon target below 25,000 feet TVDSS during the standard 5-year primary term of the lease will not be granted a suspension for that same period under the regulations at 30 CFR 250.175 because the lease is not at risk of expiring.

2. The primary term for a lease in water depths ranging from 400 meters to less than 800 meters is 5 years. If the lessee spuds a well within the 5-year primary term of the lease, the lessee may earn an additional 3 years, resulting in an 8-year primary term. To earn the 8-year primary term, the lessee is required to submit a letter to the BOEM GOA Regional Supervisor, Office of Leasing and Plans, as soon as practicable, but no more than 30 days after spudding a well, providing the well number and spud date, and requesting confirmation from BOEM that the lessee earned the 8-year extended primary term. Within 30 days of receipt of the request, the BOEM GOA Regional Supervisor for Leasing and Plans will provide written confirmation of whether the lessee has earned the extended primary term and accordingly update BOEM's records. The extended primary term is not effective unless and until the lessee receives confirmation from BOEM.

3. The primary term for a lease in water depths 800 meters or deeper is 10 years.

Minimum Bonus Bid Amounts

Pursuant to Section 50102(b)(1)(A) of the OBBBA, the minimum bonus bids are the same as those used in Lease Sale 254. BOEM will not accept a bonus bid unless it provides for a cash bonus in an amount equal to or exceeding the specified minimum bid, as described below.

• $25 per acre or fraction thereof for blocks in water depths less than 400 meters; and

• $100 per acre or fraction thereof for blocks in water depths 400 meters or deeper.

Rental Rates

Pursuant to Section 50102(b)(1)(A) of the OBBBA, rental rates are the same as those used in Lease Sale 254. Annual rental rates, per acre or fraction thereof, are summarized in the following table:

Table 5—Rental Rates per Acre or Fraction Thereof
Water depth (meters) | Years 1-5 | Year 6 | Year 7 | Year 8+
0 to <200 | $7 | $14 | $21 | $28
200 to <400 | 11 | 22 | 33 | 44
400 + | 11 | 16 | 16 | 16

Escalating Rental Rates for Leases With an 8-Year Primary Term in Water Depths Less Than 400 Meters

Any lessee with a lease in less than 400 meters water depth who earns an 8-year primary term will pay an escalating rental rate as shown above. The rental rates after the fifth year for blocks in less than 400 meters water depth will become fixed and no longer escalate if another well is spudded targeting hydrocarbons below 25,000 feet TVDSS after the fifth year of the lease, and BOEM concurs that such a well has been spudded. In this case, the rental rate will become fixed at the rental rate in effect during the lease year in which the additional well was spudded.

Minimum Royalty Rate

Pursuant to Section 50102(b)(1)(A) of the OBBBA, the minimum royalty rates are the same as those used in Lease Sale 254:

• $7.00 per acre or fraction thereof per year for blocks in water depths less than 200 meters; and

• $11.00 per acre or fraction thereof per year for blocks in water depths 200 meters or deeper.

Royalty Rate

The royalty rate is the minimum allowed by Section 50102(b)(1)(C) of the OBBBA:

• 12½ percent for blocks in all water depths.

Royalty Suspension Provisions

Pursuant to Section 50102(b)(1)(A) of the OBBBA, the royalty suspensions offered in this sale are the same as those offered in Lease Sale 254. The Department may issue leases with Royalty Suspension Volumes (RSVs) under 30 CFR part 560, which BOEM administers. The specific details relating to eligibility and implementation of RSVs and other royalty relief programs are found at 30 CFR part 203, which the Bureau of Safety and Environmental Enforcement administers.

Royalty Suspension Volumes on Gas Production From Ultra-Deep Wells

Pursuant to 30 CFR part 203, certain leases issued because of this sale may be eligible for RSV incentives on gas produced from ultra-deep wells. Under this program, wells on leases in less than 400 meters water depth and completed to a drilling depth of 20,000 feet TVDSS or deeper receive an RSV of 35 billion cubic feet on the production of natural gas. This RSV incentive is subject to applicable price thresholds set forth in the regulations at 30 CFR part 203. These regulations implement the requirements of the Energy Policy Act of 2005 (Pub. L. 109-58, 119 Stat. 594 (2005)).

IV. Lease Stipulations

Pursuant to Section 50102(b)(1)(A) of the OBBBA, BOEM must use the same lease stipulations 4 through 9 that were provided in the Lease Sale 254 Final NOS. BOEM has updated Stipulations 1, 2, 3, and 10, where applicable, to reflect current conditions in the GOA.

One or more of the stipulations below may be applied to leases issued in this sale. The applicable blocks for each stipulation are identified on the map entitled, “Final Gulf of America Oil and Gas Lease Sale BBG1, December 2025, Stipulations and Deferred Blocks,” which is included in the Final NOS package. The full text of the following stipulations is contained in the “Lease Stipulations” section of the Final NOS package. BOEM has posted the final list of blocks available for bid and the applicable stipulations that apply to those blocks on its website at https://www.boem.gov/Sale-BBG1 under the Final NOS tab.

1. Military Areas

2. Evacuation

3. Coordination

4. Protected Species

5. Topographic Features

6. United Nations Convention on the Law of the Sea Royalty Payment

7. Agreement between the United States and Mexico Concerning Transboundary Hydrocarbon Reservoirs

8. Live Bottom

9. Blocks South of Baldwin County, Alabama

10. Restrictions due to Rights-of-Use and Easement for Floating Production Facilities

V. Information to Lessees

Information to Lessees (ITLs) provide detailed information on certain issues pertaining to specific oil and gas lease sales. The full text of the ITLs for this sale is contained in the “Information to Lessees” section of the Final NOS package and covers the following topics.

1. Navigation Safety

2. Ordnance Disposal Areas

3. Existing and Proposed Artificial Reefs/Rigs-to-Reefs

4. Lightering Zones

5. Indicated Hydrocarbons List

6. Military Areas

7. Bureau of Safety and Environmental Enforcement Inspection and Enforcement of Certain U.S. Coast Guard Regulations

8. Significant Outer Continental Shelf Sediment Resource Areas

9. Notice of Arrival on the Outer Continental Shelf

10. Bidder/Lessee Notice of Obligations Related to Criminal/Civil Charges and Offenses, Suspension, or Debarment; Disqualification Due to a Conviction under the Clean Air Act or the Clean Water Act

11. Protected Species

12. Expansion of the Flower Garden Banks National Marine Sanctuary

13. Communication Towers

14. Deepwater Port Applications for Offshore Oil and Liquefied Natural Gas Facilities

15. Ocean Dredged Material Disposal Sites

16. Rights-of-Use and Easement

17. Industrial Waste Disposal Areas

18. Gulf Islands National Seashore

19. Air Quality Permit/Plan Approvals

20. Provisions Pertaining to Certain Transactions by Foreign Persons Involving Real Estate in the United States

VI. Maps

The maps pertaining to this lease sale can be viewed on BOEM's website at https://www.boem.gov/Sale-BBG1. The following maps also are included in the Final NOS package:

Sale Area Map

The sale area is shown on the map entitled, “Final Oil and Gas Sale Area for Sale BBG1.”

Lease Terms and Economic Conditions Map

The lease terms and economic conditions associated with leases of certain blocks are shown on the map entitled, “Final Gulf of America Oil and Gas Lease Sale BBG1, December 2025, Lease Terms and Economic Conditions.”

Stipulations and Deferred Blocks Map

The lease stipulations and the blocks to which they apply are shown on the map entitled, “Final Gulf of America Oil and Gas Lease Sale BBG1, December 2025, Stipulations and Deferred Blocks.”

VII. Bidding Instructions

Prior to the bid submission deadline, bids may be submitted through any parcel delivery service (e.g., FedEx, UPS, U.S. Postal Service, DHL) or in-person at the address listed in the “Mailed Bid Submission” section.

Instructions on how to submit a bid, secure payment of the advance bonus bid deposit (if applicable), and the information to be included with the bid are as follows:

Bid Form

For each block bid upon, a separate sealed bid must be submitted in a sealed envelope (as described below) and include the following items:

• Total amount of the bid in whole dollars only;

• Sale number;

• Sale date;

• Each bidder's exact name;

• Each bidder's proportionate interest, stated as a percentage, using a maximum of five decimal places (e.g., 33.33333 percent);

• Typed name and title, and signature of each bidder's authorized officer. Electronic signatures are acceptable. The typed name, title, and signature must agree exactly with the name and title on file in the BOEM Gulf of America OCS Region Adjudication Section;

• Each bidder's BOEM qualification number;

• Map name and number or OPD name and number;

• Block number; and

• Statement acknowledging that the bidder(s) understands that this bid legally binds the bidder(s) to comply with all applicable regulations, including the requirement to post a deposit in the amount of one-fifth of the bonus bid amount for any tract bid upon and make payment of the balance of the bonus bid and first year's rental upon BOEM's acceptance of high bids.

The information required for each bid is specified in the document “Bid Form” that is available in the Final NOS package, which can be found at https://www.boem.gov/Sale-BBG1. A blank bid form is provided in the Final NOS package for convenience and can be copied and completed with the necessary information described above.

Bid Envelope

Each bid must be submitted in a separate sealed envelope labeled as follows:

• “Sealed Bid for Lease Sale BBG1, not to be opened until 9 a.m. Wednesday, December 10, 2025”;

• Map name and number or OPD name and number;

• Block number for block bid upon;

• Acreage, if the bid is for a block that is split between the Central and Eastern Planning Areas; and

• The exact name and qualification number of the submitting bidder only.

The Final NOS package includes a sample bid envelope for reference.

Mailed Bid Submission

If bids will be mailed, BOEM advises bidders to inform BOEM by email at BOEMGulfLeaseSalesAttendance@boem.gov immediately after placing bid(s) in the mail. Please address the envelope containing the sealed bid envelope(s) as follows:

Attention: Leasing and Financial Responsibility Section, BOEM New Orleans Office, 1201 Elmwood Park Boulevard MS-266A, New Orleans, Louisiana 70123-2394, Contains Sealed Bids for Lease Sale BBG1, Please Deliver to Mr. Pedro Levy or Mrs. Karoline DiPerna, 2nd Floor, Immediately

Please Note: Bidders are advised to inform BOEM by email at BOEMGulfLeaseSalesAttendance@boem.gov immediately after placing bid(s) in the mail. This provides advance notice to BOEM regarding pending bids before the bid submission deadline. In the email, please state the tracking number of the bid package, the number of bids being submitted, and the email address of the person who should receive the bid receipt for signature. If BOEM receives bids later than the bid submission deadline, the BOEM GOA Regional Director (RD) will return those bids unopened to bidders. Please see Section XI, “Delay of Sale,” regarding BOEM's discretion to extend the bid submission deadline in the case of an unexpected event (e.g., flooding) and how bidders can obtain more information on such extensions.

In-Person Bid Submission and/or In-Person Bid Reading

Bidders must advise BOEM via email at BOEMGulfLeaseSalesAttendance@boem.gov no later than 4:00 p.m. on November 21, 2025, if the intention is to participate in Lease Sale BBG1 in person for bid submission, bid reading, or both. BOEM will promptly respond to the email with additional instructions for gaining security clearance to attend bid submission and/or bid reading in-person. Bidders who do not notify BOEM and gain clearance to attend in advance will not be granted access to the venue and will be instructed to mail in bids, which must arrive prior to the bid submission deadline.

Advance Bonus Bid Deposit Guarantee

Bidders who are not currently an OCS oil and gas lease record title holder or designated operator, or those who have ever defaulted on a one-fifth bonus bid deposit, must guarantee (secure) the payment of the one-fifth bonus bid deposit, by Electronic Funds Transfer (EFT) or otherwise, before bid submission using one of the following four methods:

• Provide a third-party guarantee;

• Amend a development stage area-wide bond via bond rider;

• Provide a letter of credit; or

• Provide a lump sum payment in advance via EFT.

Please provide, at the time of bid submittal, a confirmation or tracking number for the payment, the name of the company submitting the payment as it appears on the payment, and the date the payment was submitted so that BOEM can confirm payment with the Office of Natural Resources Revenue (ONRR). Bidders should submit payments to their financial institution at least 5 business days prior to bid submittal to ensure that the Office of Foreign Assets Control and the U.S. Department of the Treasury (U.S. Treasury) have time to screen and process payments and that payments are posted to ONRR prior to placing the bid. ONRR cannot confirm payment until the monies have been moved into settlement status by the U.S. Treasury. Bids will not be accepted if BOEM cannot confirm payment with ONRR before 10:00 a.m. on Tuesday, December 9, 2025.

If providing a third-party guarantee, amending a development stage area-wide bond via bond rider, or providing a letter of credit to secure your one-fifth bonus bid deposit, bidders are urged to file these documents with BOEM well in advance of submitting the bid. This allows processing time and ensures bidders have time to take any necessary curative actions prior to bid submission. For more information on EFT procedures, see Section X, “The Lease Sale.”

Geophysical Data and Information Statement (GDIS)

The GDIS is composed of five parts:

1. A “Statement” page that includes the company representatives' information and separate lists of blocks bid on that used proprietary data and those blocks bid upon that did not use proprietary data;

2. A “Table” listing the required data about each proprietary survey used (see below);

3. A “Survey Parameter Worksheet” listing acquisition geometry, frequency range, fold coverage and processing methods for each survey (see below);

4. “Maps,” which contain the live trace maps for each proprietary survey and fast-track survey that are identified in the GDIS statement and table; and

5. Proprietary geophysical and fast-track data need to be submitted along with the GDIS.

Every bidder submitting a bid on a block in Lease Sale BBG1 or participating as a joint bidder in such a bid must submit at the time of bid submission all four parts of the GDIS. A bidder must submit the GDIS even if a joint bidder or bidders on a specific block also have submitted a GDIS. Any speculative data that has been reprocessed externally or “in-house” is considered proprietary due to the proprietary processing and is no longer considered to be speculative.

The bidder and joint bidder must submit the GDIS in a separate and sealed envelope and must identify all proprietary data; reprocessed speculative data, and/or any Controlled Source Electromagnetic surveys, Amplitude Versus Offset (AVO) data, gravity data, and/or magnetic data; or other data or information used as part of the decision to bid or participate in a bid on the block.

The bidder and joint bidder must also include a live trace map (e.g., .pdf and ArcGIS shapefile) for each proprietary survey identified in the GDIS illustrating the actual areal extent of the proprietary geophysical data in the survey (see the “Example of Preferred Format” that is included in the Final NOS package for additional information). The shape file must not include cultural resources information; only the live trace map of the survey itself.

The GDIS statement must include the name, phone number, and full address for a contact person and an alternate, who are both knowledgeable about the geophysical information and data listed and who are available for 30 days after the sale date. The GDIS statement must also include a list of all blocks bid upon, including those blocks where no proprietary or reprocessed geophysical data and/or proprietary information was used, as a basis for the bidder's decision to bid or to participate as a joint bidder in the bid. All bidders must submit the GDIS statement even if no proprietary geophysical data or information was used in its bid preparation for the block.

Examples of the preferred format of the table and parameter worksheet are included in the Final NOS package, and a blank digital version of the preferred table and Survey Parameter Worksheet can be accessed on the Lease Sale BBG1 website at https://www.boem.gov/Sale-BBG1. The GDIS table should have columns that clearly state the following:

• The sale number;

• The bidder company's name;

• The joint bidder's company's name (if applicable);

• The company providing proprietary data to BOEM;

• The block area and block number bid upon;

• The owner of the original data set (i.e., who initially acquired the data);

• The industry's original name of the survey (e.g., E Octopus);

• The BOEM permit number for the survey;

• Whether the data set is a fast-track version; BOEM will request all fast-track data;

• Whether the data is speculative or proprietary;

• The data type (e.g., 2-D, 3-D, or 4-D; pre-stack or post-stack; time or depth);

• The migration algorithm (e.g., Kirchhoff migration, wave equation migration, reverse migration, reverse time migration) of the data and areal extent of bidder survey (i.e., number of line miles for 2-D or number of blocks for 3-D);

• The live proprietary survey coverage (2-D miles 3-D blocks);

• The computer storage size, to the nearest gigabyte, of each seismic data and velocity volume used to evaluate the lease block;

• Who reprocessed the data;

• The date on which the final reprocessing was completed (month and year);

• If the data was previously sent to BOEM, list the sale number and date of the sale for which it was used;

• Whether proprietary or speculative AVO/AVA (PROP/SPEC) was used;

• The date on which the AVO or AVA was sent to BOEM, if it was sent before the sale;

• Whether AVO/AVA is time or depth (PSTM or PSDM);

• Which angled stacks were used (e.g., NEAR, MID, FAR, ULTRAFAR);

• Whether the company used Gathers to evaluate the block in question; and

• List of other Geophysical Data methods used to evaluate the bid block (Inversion, Modeling, Illumination, Grav, Mag, etc.).

BOEM will use the computer storage size information to estimate the reproduction costs for each data set, if applicable. BOEM will determine the availability of reimbursement of production costs consistent with 30 CFR 551.13.

BOEM reserves the right to inquire about alternate data sets, perform quality checks, and compare the listed and alternative data sets to determine which data set most closely meets the needs of the fair market value determination process. See the “Example of Preferred Format” that is included in the Final NOS package.

Survey Parameter Worksheet

The BOEM GOA Region now requires bidders to submit a completed electronic version of the Survey Parameters Worksheet alongside any Seismic Survey submittal. This worksheet plays a critical role in supporting BOEM's Fair Market Value (FMV) Evaluation Methodology, which is used to assess the economic value of leases offered in OCS lease sales. The data provided in the worksheet allows BOEM to better understand the technical scope and intent behind each seismic survey, and how those data contribute to subsurface interpretation and prospectivity analysis.

By supplying detailed parameters—such as acquisition geometry, frequency range, fold coverage, and processing methods—bidders provide BOEM with the context necessary to:

• Qualitatively assess the degree of geological understanding obtained from the survey;

• Evaluate the quality and resolution of seismic imaging, which can directly influence the identification of leads and prospects;

• Determine the likelihood of successful hydrocarbon identification, by considering how the data may mitigate or highlight geological risks;

• Identify geophysical phenomena (e.g., amplitude anomalies, velocity pull-ups, multiples, etc.) that could impact the interpretation and chance of success;

• Assess the commercial implications of the survey in supporting new play concepts or de-risking known trends.

Ultimately, the inclusion of this worksheet enhances the transparency and technical rigor behind BOEM's FMV assessments. It ensures that economic evaluations are informed by the best available subsurface data and geological interpretations, helping to safeguard the public interest in OCS resource development.

Bidders are encouraged to complete the worksheet with care and accuracy, as it will directly inform BOEM's ability to fairly and accurately evaluate lease block value based on current geoscientific insight.

Glossary of Terms in order the terms appear in the Seismic Parameter Worksheet:

• BOEM Project Name: Please do not fill out. This element is for internal BOEM purposes.

• Seismic Vendor: List the company who shot the survey.

• Industry Survey Name: List the name of the original survey.

• Speculative or Proprietary: Speculative is data that is available for purchase from a vendor for anyone; the original data “right out of the box.” Proprietary is any data that was acquired by an E&P Company or Speculative Data that has become proprietary through reprocessing. Any speculative data such as 2-D or 3-D, pre-stack or post-stack, time or depth, amplitude with offset (AVO), inversion, CSEM, gravity and magnetic data that has been modified or changed from its original processing would be considered proprietary due to the proprietary processing.

• 2D/3D/4D: List the acquisition type.

• Time/Depth: List the survey domain.

• Acquisition Company (if different from Vendor): The Field Acquisition Company could be different from the Final Processed Survey Vendor.

• Acquisition Project Name (if different from Final Processed Industry Survey Name): Acquisition Project Name could be different than Final Processed Survey Name especially when Merging Shoots and/or Reprocessing.

• Acquisition Date: List the date the field acquisition was complete.

• Maximum Offset (Inline/Crossline)/(X/Y): Maximum distance between source and receiver. Offset can be different in Inline and Crossline direction.

• Streamer or OBN: Examples are marine towed streamer, seafloor cable, or seafloor nodes.

• Streamer depth: Depth of streamer below the water.

• Streamer configuration (example: Multistreamer: ten 8,000m cables or 1,000 seafloor nodes): Description of receivers including how many cables and length of each.

• Hydrophone type (2D (P wave), 2D (P+S wave), 3D (P Wave), 3D (P+S, Multicomponent)): Describe the richness of the hydrophones.

• Receiver Group Interval (DGF)(meters): The distance between two consecutive receivers located on the same receiver line.

• Azimuth Distribution (NAZ, MAZ, WAZ, RAZ, FAZ): List the quality of the azimuth distribution in the survey.

• Azimuth Orientation (either degree or cardinal direction): List the direction of the acquisition; example (N/S and W/E or 0/180 and 90/270).

• Energy Source (# sources, # source vessels, cubic inches per array): Describe the source array and source vessel.

• Source Depth: Depth the source array is towed below the sea-surface.

• Shot Interval: Time between shots. Could also be recorded as distance between shots.

• Sample Rate (ms): Time between vertical trace samples.

• Record Length: Total time of seismic shot record. (Number of samples per trace) x (sample rate).

• Recorded bin dimensions (Example: 6.25 x 60m): The recorded grid dimensions in Inline and Crossline.

• Fold: The number of traces, or midpoints, withing each CMP bin. Multiplicity of the CMP data.

• Seismic Processing Vendor: Company that completed the final processing for the survey.

• Processing Completed Year: Year the processing was completed.

• Migration/Processing Type: Examples are Post-Stack Time, Post-Stack Depth, Pre-Stack Time, and Pre-Stack Depth. Please list all that apply.

• Processed Bin Size (specify either feet or meters, e.g., 25m x 30m): Bin size of the final processed product.

• Migration algorithm(s): Migration types include: Kirchoff, Beam, WEM, RTM, LSRTM, FWI or other. Please list all Migrations submitted with survey.

• Velocity Build: (Salt, Salt + Wells, Acoustic FWI, Elastic FWI). List the highest complexity of data involved with building the velocity model.

• Illumination Study Type & Reliability (None, highly suspect, reasonable reliability, Full 3D wavefield). List the quality of the Illumination Study.

• Velocity Anisotropy Used? Type? (HTI, VTI, TTI, other, none). List the type of anisotropy used in the velocity.

• For Sub-Stack Volumes, list class and offset or angle range per volume. (Example, Mid Offset Range: 5000′-7000′ or Mid Angle Range: 24deg-30deg). Use a separate line for each sub-stack volume. Include the angle or offset range.

• CSEM Source Type (HED—Horizontal Dipole or VED—Vertical Dipole): Type of CSEM Source.

• CSEM Receiver Type (Seabed Nodes or Surface Towed Receiver): Type of receiver.

• Inversion Year: Year the inversion was completed.

• Receiver Spacing: Spacing between receiver/nodes.

• Source Line Spacing: Spacing between source lines.

• Inversion Type (1D, 2D, 3D): Geometry/Complexity of the Inversion.

• Inversion Type (Isotropic or Anisotropic): List if Inversion was Isotropic or Anisotropic.

• TTI (Tilted Transverse Isotropy) performed (yes, no, unknown). If TTI applied, indicate Yes or No.

• Is Inversion Speculative or Proprietary (Prospect Specific)? Is the Inversion speculative or proprietary.

The GDIS maps are live trace maps (e.g., .pdf and ArcGIS shapefiles) that bidders should submit for each proprietary survey identified in the GDIS table. The maps should illustrate the actual areal extent of the proprietary geophysical data in the survey (see the “Example of Preferred Format” that is included in the Final NOS package for additional information). As previously stated, the shapefile must not include cultural resources information, only the live trace map of the survey itself.

Pursuant to 30 CFR 551.12 and 556.501, as a condition of the sale, the BOEM GOA RD requests that all bidders and joint bidders submit the proprietary data and fast-track data identified on their GDIS within 30 days after the lease sale (unless notified after the lease sale that BOEM has withdrawn the request). This request only pertains to proprietary data and fast-track data that is not commercially available. Commercially available data should not be submitted to BOEM unless specifically requested by BOEM. The BOEM GOA RD will notify bidders and joint bidders of any withdrawal of the request, for all or some of the proprietary data identified on the GDIS, within 15 days of the lease sale. BOEM requires all data that are considered proprietary and fast-track to be submitted for the evaluation of the bid blocks. Pursuant to 30 CFR part 551 and 30 CFR 556.501, as a condition of this sale, all bidders that are required to submit data must ensure that the data are received by BOEM along with the GDIS for the lease sale. The proprietary and fast-track data must be submitted to BOEM at the following address: Bureau of Ocean Energy Management, Resource Studies, GM 881A, 1201 Elmwood Park Blvd., New Orleans, Louisiana 70123-2304.

BOEM recommends that bidders mark the submission's external envelope as “Deliver Immediately to DASPU.” BOEM also recommends that bidders submit the GDIS data and Survey Parameter Worksheet in an internal envelope, or otherwise marked, with the following designation: “Geophysical Data and Information Statement for Oil and Gas Lease Sale BBG1”, Company Name, GOA Company Qualification Number, and “Proprietary Data.”

In the event a person supplies any type of data to BOEM, that person must meet the following requirements to qualify for reimbursement:

1. Must be registered with the System for Award Management (SAM), formerly known as the Central Contractor Registration (CCR). CCR usernames will not work in SAM. A new SAM user account is needed to register or update an entity's records. The website for registering is SAM.gov.

2. Must be enrolled in the U.S. Treasury's Invoice Processing Platform (IPP) for electronic invoicing; to enroll go to https://www.ipp.gov/. Access then will be granted to use the IPP for submitting requests for payment. When submitting a request for payment, the assigned Purchase Order Number must be included.

3. Must have a current Online Representations and Certifications Application at SAM.gov.

Please Note: Digital copies and duplicate hardcopies should be submitted for the GDIS Statement, Table, and Maps. The GDIS Statement should be sent in as a digital PDF. The GDIS Information Table must be submitted digitally as an Excel spreadsheet. The proprietary data and fast-track data maps should be sent in as PDF files and the live trace outline of each proprietary survey and fast-track survey should also be submitted as a shapefile. Please flatten all layered PDF files, since layered PDFs can have many objects. Layered PDFs can cause problems opening or printing the file correctly. Bidders may submit the digital files on a CD, DVD, or any USB external drive (formatted for Windows). If bidders have any questions, please contact Ms. Dee Smith at (504) 736-2706, or Ms. Teree Campbell at (504) 736-3231.

Bidders should refer to the “Acceptance, Rejection, or Return of Bids” heading under Section X, “The Lease Sale,” regarding a bidder's failure to comply with the requirements of the Final NOS, including any failure to submit information required in the Final NOS package.

Telephone Numbers/Addresses of Bidders

BOEM requests that bidders provide this information in the suggested format prior to or at the time of bid submission. The suggested format is included in the Final NOS package. The form must not be enclosed inside the sealed bid envelope.

Additional Documentation

BOEM may require bidders to submit other documents in accordance with 30 CFR 556.107, 556.401, 556.501, and 556.513.

VII. Bidding Rules and Restrictions

Restricted Joint Bidders

On November 4, 2025, BOEM published the most recent List of Restricted Joint Bidders in the Federal Register (90 FR 49242). Potential bidders are advised to refer to the Federal Register before bidding for the most current list at the time of the lease sale. Please refer to the joint bidding provisions at 30 CFR 556.511-556.515.

Authorized Signatures

All signatories executing documents on behalf of the bidder(s) must execute the same in conformance with the BOEM qualification records. Bidders are advised that BOEM considers the signed bid to be a legally binding obligation on the part of the bidder(s) to comply with all applicable regulations, including the required payment of one-fifth of the bonus bid on all high bids. A statement to this effect is included on each bid form (see the document “Bid Form and Envelope” that is included in the Final NOS package).

Unlawful Combination or Intimidation

BOEM warns bidders against violation of 18 U.S.C. 1860, which prohibits unlawful combination or intimidation of bidders.

Bid Withdrawal

Bids may only be withdrawn by written request delivered to BOEM via any parcel delivery service, or in-person prior to the bid submission deadline. Withdrawals will not be accepted via email. The withdrawal request must be on company letterhead and must contain the bidder's name, its BOEM qualification number, the map name and number, and the block number(s) of the bid(s) to be withdrawn. The withdrawal request must be executed by one or more of the representatives named in the BOEM qualification records. The name and title of the authorized signatory must be typed under the signature block on the withdrawal request. The BOEM GOA RD, or the RD's designee, will indicate approval by signing and dating the withdrawal request.

Bid Rounding

Minimum bonus bid calculations, including rounding, for all blocks are shown in the document “List of Blocks Available for Leasing” that is included in the Final NOS package. The bonus bid amount must be stated in whole dollars. If the acreage of a block contains a decimal figure, then prior to calculating the minimum bonus bid, BOEM will round up to the next whole acre. The appropriate minimum rate per acre will be applied to the whole (rounded up) acreage. The bonus bid amount must be greater than or equal to the minimum bonus bid, as calculated and stated in the Final NOS package.

IX. Forms

The Final NOS package includes instructions, samples, and/or the preferred format for the items listed below. BOEM strongly encourages bidders to use the recommended formats. If bidders use another format, they are responsible for including all the information specified for each item in the Final NOS package.

1. Bid Form

2. Sample Completed Bid

3. Sample Bid Envelope

4. Sample Bid Mailing Envelope

5. Telephone Numbers/Addresses of Bidders Form

6. Survey Parameters Worksheet

7. GDIS Form

8. GDIS Envelope Form

X. The Lease Sale

Bid Opening and Reading

Sealed bids received in response to the Final NOS will be opened at the place, date, and hour specified under the DATES and ADDRESSES sections of the Final NOS. The venue will not be open to the public. Instead, the bid opening will be available for the public to view on BOEM's website at http://www.boem.gov via live streaming. Bidders participating in Lease Sale BBG1 who have gained the required clearance as stated in the “In-person Bid Submission and/or In-person Bid Reading” section will be allowed to view bid reading in person. The opening of the bids is for the sole purpose of publicly announcing and recording the bids received; no bids will be accepted or rejected at that time.

Bonus Bid Deposit for Apparent High Bids

Each bidder submitting an apparent high bid must submit a bonus bid deposit to ONRR equal to one-fifth of the bonus bid amount for each such bid. A copy of the notification of the high bidder's one-fifth bonus bid amount can be obtained on the BOEM website at https://www.boem.gov/Sale-BBG1 under the heading “Notification of EFT 1/5 Bonus Liability” after 1:00 p.m. on the day of the sale. All payments must be electronically deposited into an interest-bearing account in the U.S. Treasury by 1:00 p.m. Eastern Time the day following the bid reading (no exceptions). Account information is provided in the “Instructions for Making Electronic Funds Transfer Bonus Payments” found on the BOEM website identified above.

Bidders must submit payment to their financial institution as soon as possible on the day of bid reading and no later than 7:00 p.m. Eastern Time on the day of bid reading. This will help ensure that deposits have time to process through the U.S. Treasury and post to ONRR. ONRR cannot confirm payment until the monies have been moved into settlement status by the U.S. Treasury.

BOEM requires bidders to use EFT procedures for payment of one-fifth bonus bid deposits for Lease Sale BBG1, following the detailed instructions contained on the ONRR Payment Information web page at https://www.onrr.gov/ReportPay/payments.htm. Acceptance of a deposit does not constitute, and will not be construed as, acceptance of any bid on behalf of the United States.

Withdrawal of Blocks

The United States reserves the right to withdraw any block from this lease sale before issuance of a written acceptance of a bid for the block.

Acceptance, Rejection, or Return of Bids

The United States reserves the right to reject any and all bids, regardless of the amount offered. Furthermore, no bid will be accepted, and no lease for any block will be awarded to any bidder, unless:

1. The bidder has complied with all applicable regulations and requirements of the Final NOS, including those set forth in the documents contained in the Final NOS package;

2. The bid is the highest valid bid; and

3. The amount of the bid has been determined to be adequate by the authorized officer.

Any bid submitted that does not conform to the requirements of the Final NOS, OCSLA, or other applicable statutes or regulations will be rejected and returned to the bidder. The United States Department of Justice and the Federal Trade Commission will review the results of the lease sale for any antitrust issues prior to the acceptance of bids and issuance of leases.

Bid Adequacy Review Procedures for Lease Sale BBG1

To ensure that the U.S. Government receives fair market value for the conveyance of leases from this sale, BOEM will evaluate high bids in accordance with the bid adequacy procedures that are effective on the date of the sale. This is the first lease sale to use the revised bid adequacy procedures that BOEM finalized in 2024. The bid adequacy procedures are available on BOEM's website at https://www.boem.gov/oil-gas-energy/leasing/bid-adequacy-procedures.

Lease Award

BOEM requires each bidder who is awarded a lease to complete the following:

1. Execute all copies of the lease (Form BOEM-2005 [February 2017], as amended);

2. Pay by EFT the balance of the bonus bid amount and the first year's rental for each lease issued in accordance with the requirements of 30 CFR 1218.155 and 556.520(a); and

3. Satisfy the bonding requirements of 30 CFR part 556, subpart I, as amended. ONRR requests that bidders use only one transaction for payment of the balance of the bonus bid amount and the first year's rental. Once ONRR receives such payment, the bidder awarded the lease may not request a refund of the balance of the bonus bid amount or first year's rental payment.

XI. Delay of Sale

The BOEM GOA RD has the discretion to change any date, time, and/or location specified in the Final NOS package if the RD deems that an emergent event could interfere with a fair and orderly lease sale. Such events could include, but are not limited to, natural disasters (e.g., earthquakes, hurricanes, floods), wars, riots, acts of terrorism, fires, strikes, civil disorder, or other events of a similar nature. In case of such events, bidders should call (504) 736-1729 or access the BOEM website at http://www.boem.gov, for information regarding any changes.

Matthew N. Giacona,
Acting Director, Bureau of Ocean Energy Management.

[FR Doc. 2025-19828 Filed 11-7-25; 8:45 am]

BILLING CODE 4340-98-P